DEPARTMENT OF ENERGY

Federal Energy Regulatory Commission

Combined Notice of Filings #2

Take notice that the Commission received the following electric rate filings:

Docket Numbers: ER11-3494-001.

Applicants: Southwest Power Pool, Inc.

Description: Southwest Power Pool, Inc. submits tariff filing per 35: Compliance Revisions to 2198 Kansas Power Pool NITSA to be effective 4/1/2011.

Filed Date: 08/01/2011.

Accession Number: 20110801-5132.

Comment Date: 5 p.m. Eastern Time on Monday, August 22, 2011.

Docket Numbers: ER11-3522-001.

Applicants: Public Service Company of New Mexico.

Description: Public Service Company of New Mexico submits tariff filing per 35.17(b): PNM Response to Request for Additional Information on LGIP Filing to be effective 9/30/2011.

Filed Date: 08/01/2011.

Accession Number: 20110801-5111.

Comment Date: 5 p.m. Eastern Time on Monday, August 22, 2011.

Docket Numbers: ER11-4165-000.

Applicants: New England Power Pool Participants Committee.

Description: New England Power Pool Participants Committee submits tariff filing per 35.13(a)(2)(iii: Aug 2011 Membership Filing to be effective 8/1/2011.

Filed Date: 08/01/2011.

Accession Number: 20110801-5000.

Comment Date: 5 p.m. Eastern Time on Monday, August 22, 2011.

Docket Numbers: ER11-4166-000.

Applicants: Pacific Gas and Electric Company.

Description: Pacific Gas and Electric Company submits tariff filing per 35.13(a)(2)(iii: CCSF IA—34th Quarterly Filing of Facilities Agreements to be effective 6/30/2011.

Filed Date: 08/01/2011.

Accession Number: 20110801-5001.

Comment Date: 5 p.m. Eastern Time on Monday, August 22, 2011.

Docket Numbers: ER11-4168-000.

Applicants: ITC Midwest LLC.

Description: ITC Midwest LLC submits tariff filing per 35.13(a)(2)(iii: Filing of Notice of Succession to Interconnection Agreement to be effective 10/1/2011.

Filed Date: 08/01/2011.

Accession Number: 20110801-5020.

Comment Date: 5 p.m. Eastern Time on Monday, August 22, 2011.

Docket Numbers: ER11-4169-000.

Applicants: ITC Midwest LLC.

Description: ITC Midwest LLC submits tariff filing per 35.13(a)(2)(iii: Filing of Notice of Succession to Transmission Interconnection Agreement to be effective 10/1/2011.

Filed Date: 08/01/2011.

Accession Number: 20110801-5021.

Comment Date: 5 p.m. Eastern Time on Monday, August 22, 2011.

Docket Numbers: ER11-4170-000.

Applicants: Southwest Power Pool, Inc.

Description: Submission of Notice of Cancellation.

Filed Date: 08/01/2011.

Accession Number: 20110801-5077.

Comment Date: 5 p.m. Eastern Time on Monday, August 22, 2011.

Docket Numbers: ER11-4171-000.

Applicants: Newmont Nevada Energy Investment, LLC.

Description: Newmont Nevada Energy Investment, LLC submits tariff filing per 35.13(a)(2)(iii: Newmont Nevada Energy Investment LLC Revised Market-Based Rate Filing to be effective 9/30/2011.

Filed Date: 08/01/2011.

Accession Number: 20110801-5108.

Comment Date: 5 p.m. Eastern Time on Monday, August 22, 2011.

Docket Numbers: ER11-4172-000.

Applicants: Southwest Power Pool, Inc.

Description: Southwest Power Pool, Inc. submits tariff filing per 35.13(a)(2)(iii: 1636R4 Kansas Electric Power Cooperative, Inc. NITSA NOA to be effective 8/1/2011.

Filed Date: 08/01/2011.

Accession Number: 20110801-5123.

Comment Date: 5 p.m. Eastern Time on Monday, August 22, 2011.

Docket Numbers: ER11-4173-000.

Applicants: Michigan Electric Transmission Company, Midwest Independent Transmission System Operator, Inc.

Description: Michigan Electric Transmission Company, LLC submits tariff filing per 35.13(a)(2)(iii: G479b Amended GIA to be effective 8/1/2011.

Filed Date: 08/01/2011.

Accession Number: 20110801-5124.

Comment Date: 5 p.m. Eastern Time on Monday, August 22, 2011.

Take notice that the Commission received the following land acquisition reports:

Docket Numbers: LA11-2-000.

Applicants: Portland General Electric Company.

Description: Quarterly Site Acquisition Report of Portland General Electric Company.

Filed Date: 07/29/2011.

Accession Number: 20110729-5278.

Comment Date: 5 p.m. Eastern Time on Friday, August 19, 2011.

Docket Numbers: LA11-2-000.

Applicants: Goshen Phase II LLC.

Description: Quarterly Land Acquisition Report of Goshen Phase II LLC.

Filed Date: 08/01/2011.

Accession Number: 20110801-5100.

Comment Date: 5 p.m. Eastern Time on Monday, August 22, 2011.

Docket Numbers: LA11-2-000.

Applicants: Arthur Kill Power LLC, Astoria Gas Turbine Power LLC, Avenal Park LLC, Bayou Cove Peaking Power LLC, Big Cajun I Peaking Power LLC, Cabrillo Power I LLC, Cabrillo Power II LLC, Conemaugh Power LLC, Connecticut Jet Power LLC, Cottonwood Energy LP, Devon Power LLC, Dunkirk Power LLC, El Segundo Energy Center LLC, El Segundo Power, LLC, El Segundo Power II LLC, GenConn Devon LLC, GenConn Energy LLC, GenConn Middletown LLC, Huntley Power LLC, Indian River Power LLC, Keystone Power LLC, Long Beach Generation LLC, Long Beach Peakers LLC, Louisiana Generating LLC, Middletown Power LLC, Montville Power LLC, NEO Freehold-Gen LLC, Norwalk Power LLC, NRG Energy Center Dover LLC, NRG Energy Center Paxton LLC, NRG New Jersey Energy Sales LLC, NRG Power Marketing LLC, NRG Rockford LLC, NRG Rockford II LLC, NRG Solar Blythe LLC, NRG Sterlington Power LLC, Oswego Harbor Power LLC, Saguaro Power Company, A Limited Partnership, Sand Drag LLC, Somerset Power LLC, Sun City Project LLC, Vienna Power LLC, NRG Power Marketing, LLC, NRG Energy, Inc.

Description: NRG Power Marketing LLC, et al. Order 697-C Compliance Filing Regarding Site Control.

Filed Date: 08/01/2011.

Accession Number: 20110801-5110.

Comment Date: 5 p.m. Eastern Time on Monday, August 22, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: August 1, 2011.
Kimberly D. Bose,
Secretary.

[FR Doc. 2011-19937 Filed 8-4-11; 8:45 am]

BILLING CODE 6717-01-P